DEPARTMENT OF COMMERCE

National Institute of Standards and Technology

Submission For OMB Review; Comment Request

The Department of Commerce has submitted to the Office of Management and Budget (OMB) for clearance the following proposal for collection of information under the provisions of the Paperwork Reduction Act (44 U.S.C. Chapter 35).

Agency: National Institute of Standards and Technology (NIST).

Title: User Evaluation of DARPA Communicator Systems.

Form Number(s): None.

OMB Approval Number: None.

Type of Request: New collection.

Burden Hours: 120.

Number of Respondents: 160.

Average Hours Per Response: 5 minutes.

Needs and Uses: The Defense Advanced Research Projects Agency (DARPA) has provided funds to NIST to evaluate the DARPA Communicator implementations that have been built by research groups also funded by DARPA for that purpose. The evaluation is user-based and the users are paid research subjects. The subjects will fill out a user questionnaire that is intended to assess their user-satisfaction and subjective opinion about various aspects of each system that are being objectively measured. The information collected is intended to achieve three goals: (1) help implementors of Communicator programs to identify the successes and weaknesses of their implementations; (2) enable the research sponsor (DARPA) to identify and measure progress in order to assess the success of the program; and (3) advance the state of research knowledge about metrics and evaluation of task-based spoken dialogue systems.

Affected Public: Individuals or households.

Frequency: On occasion.

Respondent's Obligation: Voluntary.

OMB Desk Officer: David Rostker, (202) 395-3897.

Copies of the above information collection proposal can be obtained by calling or writing Linda Engelmeier, DOC Forms Clearance Officer, (202) 482-3272, Department of Commerce, Room 5027, 14th and Constitution Avenue, NW, Washington, DC 20230 (or via the Internet at lengelme@doc.gov).

Written comments and recommendations for the proposed information collection should be sent within 30 days of publication of this notice to David Rostker, OMB Desk Officer, Room 10202, New Executive Office Building, Washington, DC 20503.

Dated: April 6, 2000.
Linda Engelmeier,
Departmental Forms Clearance Officer, Office of the Chief Information Officer.

[FR Doc. 00-9054 Filed 4-11-00; 8:45 am]

BILLING CODE 3510-13-P